DEPARTMENT OF COMMERCE

National Oceanic and Atmospheric Administration

[I.D. 061604B]

NOAA Recreational Fisheries Strategic Plan Public Meetings

AGENCY: National Marine Fisheries Service (NMFS), National Oceanic and Atmospheric Administration (NOAA), Commerce.

ACTION: Notice of public meetings.

SUMMARY: The National Marine Fisheries Service (NOAA Fisheries) is hosting a series of public meetings to present a draft of the NOAA Fisheries Strategic Plan for Recreational Fisheries 2005-2010. The primary goal of the meetings is to collect public input on the draft plan.

DATES: The meetings announced by this notice will be held July 6, 2004, in Orange Beach, AL and July 8, 2004, in Houston, TX. See SUPPLEMENTARY INFORMATION for specific times, addresses, and directions. Copies of the Draft Plan will be available at each meeting, or can be obtained in advance of the meeting on the website at http://www.nmfs.noaa.gov/recfish/ or by contacting Michael Kelly, Division Chief, NOAA Fisheries Office of Constituent Services (301) 713-2379.

FOR FURTHER INFORMATION CONTACT: Michael Kelly, Division Chief, Office of Constituent Services at (301) 713-2379.

SUPPLEMENTARY INFORMATION: The meeting in Alabama is scheduled for July 6, 2004, from 6 9 p.m. at the Orange Beach Community Center, 27235 Canal Road, Orange Beach, AL. The meeting in Texas is scheduled from July 8, 2004, 6 9 p.m. at the Coastal Conservation Association National Headquarters Office 6919 Portwest, Suite 100, Houston, TX.

Directions from Mobile, Alabama airport: Begin going East on AIRPORT BLVD/CR-56 E toward JOSEPH DRAWNS DR. Merge onto I-65S. Merge onto I-10 E. Take the AL-59 S exit number 44 toward LOXLEY/GULF SHORES-BEACHS/GULF STATE PARK. Merge onto N HICKORY ST. N HICKORY ST becomes AL-59S. Turn LEFT onto FOLEY BEACH (Portions toll). Turn LEFT onto AL-180/CANAL RD. Turn SLIGHT LEFT to stay on AL-180/CANAL RD. Proceed to 27235 CANAL RD. ORANGE BEACH, AL.

Directions: From Bush Intercontinental airport: Start out going West on TERMINAL RD N toward TERMINAL A BAGGAGE CLAIM. Turn LEFT onto AIRPORT EXIT. Turn LEFT onto TERMINAL RD S. Turn SLIGHT RIGHT onto JOHN F KENNEDY BLVD/JFK BLVD. Take the HARDY TOLL RD ramp. Merge onto HARDY W (Portions toll). Take the I-45/HARDY TOLL RD exit on the left toward BELTWAY 8/DOWNTOWN. Merge onto HARDY S (Portions toll). Merge onto I-610 W. Take exit number 11B toward KATY RD. Turn SLIGHT LEFT onto W LOOP FRWY N. Turn LEFT onto OLD KATY RD. Turn RIGHT onto PORTWEST DR. End at 6919 PORTWEST DR., HOUSTON, TX.

Special Accommodations

The meetings are physically accessible to people with disabilities. Requests for sign language interpretation or other auxiliary aids should be Directed to Michael Kelly at (301) 713-2379 at least five days prior to the meeting date.

Dated: June 18, 2004.
William T. Hogarth,
Assistant Administrator for Fisheries, National Marine Fisheries Service.

[FR Doc. 04-14378 Filed 6-23-04; 8:45 am]

BILLING CODE 3510-22-S